ENVIRONMENTAL PROTECTION AGENCY

[EPA-HQ-SFUND-2015-0100; FRL-10265-01-OMS]

Information Collection Request Submitted to OMB for Review and Approval; Comment Request; Continuous Release Reporting Requirement Including Analysis for Use of Continuous Release Reporting Form (Renewal)

AGENCY: Environmental Protection Agency (EPA).

ACTION: Notice.

SUMMARY: The Environmental Protection Agency (EPA) has submitted an information collection request (ICR), Continuous Release Reporting Requirement Including Analysis for Use of Continuous Release Reporting Forms (EPA ICR Number 1445.15, OMB Control Number 2050-0086) to the Office of Management and Budget (OMB) for review and approval in accordance with the Paperwork Reduction Act. This is a proposed extension of the ICR, which is currently approved through November 30, 2022. Public comments were previously requested via the Federal Register on February 24, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 31, 2022.

ADDRESSES: Submit your comments, referencing Docket ID No. EPA-HQ-SFUND-2015-0100, online using www.regulations.gov (our preferred method), or by mail to EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Pursuant to section 3506(c)(2)(A) of the PRA, in the first FR notice (87 FR 10361 published on February 24, 2022, EPA solicited comments and information pertaining to the Continuous Release Reporting Requirements (CRRR) under Section 103(a) of CERCLA, as amended. CRRR requires the person in charge of a vessel or facility immediately to notify the National Response Center (NRC) of a hazardous substance release into the environment if the amount of the release equals or exceeds the substance's reportable quantity (RQ) (found in Table 302.4 of 40 CFR 302.4). If the source and chemical composition of the continuous release do not change and the level of the continuous release does not significantly increase, a follow-up written report to EPA Headquarters one year after submission of the initial written report is also required. The person in charge must notify the NRC and EPA Region of a change in the source or composition of the release, and under section 103(a) of CERCLA, a significant increase must be reported immediately to the NRC. Finally, any change in information submitted in support of a continuous release notification must be reported to EPA Headquarters. Section 103(f)(2) of CERCLA provides facilities relief from per-occurrence notification release requirements if the subject release is continuous and stable in quantity and rate.

CRRR allows the Federal government to determine whether a Federal response action is required to control or mitigate any potential adverse effects to public health, welfare or the environment. The release information is also available to EPA program offices and other Federal agencies who evaluate the potential need for additional regulations, new permitting requirements for specific substances or sources, or improved emergency response planning. State and local government authorities and facilities subject to the CRRR use the release information for local emergency response planning. The public, which has access to release information through the Freedom of Information Act, may request release information on what types of releases are occurring in different localities and what actions, if any, are being taken to protect public health, welfare and the environment.

Form Numbers: EPA Form 6100-10, Continuous Release Reporting Form.

Respondents/affected entities: Entities potentially affected by this action are not defined. The use and release of hazardous substances are pervasive throughout industry. EPA expects many different industrial categories to report hazardous substance releases under the provisions of the CRRR. No one industry sector or group of sectors is disproportionately affected by the information collection burden.

Respondent's obligation to respond: Mandatory if respondents want reduced reporting for continuous releases.

Estimated number of respondents: 4,250, including 25 State and local government agencies.

Frequency of response: On occasion.

Total estimated burden: 38,625 hours (average per year, including 75 hours for State and local government agencies). Burden is defined at 5 CFR 1320.03(b).

Total estimated cost: $2,487,450 (average per year), including $8,200 annualized capital or operation & maintenance costs (average per year) and $4,178 in State and local government agency costs (average per year).

Changes in Estimates: Compared to the previous ICR renewal, the estimated respondent unit burden per CRRR submission has remained the same and the estimated annual total respondent burden has decreased by 88 percent, from an estimated 334,472 average annual hours in the previous ICR renewal to an estimated 38,625 average annual hours in this renewal. This ICR renewal was updated to reflect the review of available information gathered while moving the program submissions from EPA Regions to a central location at EPA HQ. The previous ICRs had overestimated the burden on both industry and governments. The typical facility does not make an average of eight separate submissions, as previously estimated, but rather, one. While the burden to generate a CRRR submission remains the same, the overall submissions and number of chemicals reported are reduced. This reduces the labor burden for both industry and governments.

Courtney Kerwin,
Director, Regulatory Support Division.

[FR Doc. 2022-21169 Filed 9-28-22; 8:45 am]

BILLING CODE 6560-50-P